DEPARTMENT OF COMMERCE

International Trade Administration

[A-570-056, A-552-821, C-570-057]

Certain Tool Chests and Cabinets From the People's Republic of China and the Socialist Republic of Vietnam: Continuation of Antidumping Duty Orders and Countervailing Duty Order

AGENCY: Enforcement and Compliance, International Trade Administration, Department of Commerce.

SUMMARY: As a result of the determinations by the U.S. Department of Commerce (Commerce) and the U.S. International Trade Commission (ITC) that revocation of the antidumping duty (AD) orders on certain tool chests and cabinets (tool chests and cabinets) from the People's Republic of China (China) and from the Socialist Republic of Vietnam (Vietnam), and the countervailing duty (CVD) order on tool chests and cabinets from China would likely lead to the continuation or recurrence of dumping, and countervailable subsidies, and material injury to an industry in the United States, Commerce is publishing a notice of continuation of these AD and CVD orders.

DATES: Applicable July 12, 2023.

FOR FURTHER INFORMATION CONTACT: Claudia Cott, AD/CVD Operations, Office I, Enforcement and Compliance, International Trade Administration, U.S. Department of Commerce, 1401 Constitution Avenue NW, Washington, DC 20230; telephone: (202) 482-4270.

SUPPLEMENTARY INFORMATION:

Background

On January 24, 2018, Commerce published in the Federal Register the CVD order on tool chests and cabinets from China.¹ On June 4, 2018, Commerce published the AD orders on tool chests and cabinets from China and Vietnam.²

¹ See Certain Tool Chests and Cabinets from the People's Republic of China: Countervailing Duty Order, 83 FR 3299 (January 24, 2018) (CVD Order).

² See Certain Tool Chests and Cabinets from the People's Republic of China and the Socialist Republic of Vietnam: Antidumping Duty Orders, 83 FR 25645 (June 4, 2018) (AD Orders).

On December 1, 2022, the ITC instituted,³ and Commerce initiated,⁴ the first sunset review of the AD Orders and the CVD Order (collectively, Orders), pursuant to section 751(c) of the Tariff Act of 1930, as amended (the Act). As a result of its reviews, Commerce determined that revocation of the Orders would likely lead to the continuation or recurrence of dumping and countervailable subsidies, and therefore, notified the ITC of the magnitude of the margins of dumping and subsidy rates likely to prevail should the Orders be revoked.⁵

³ See Tool Chests and Cabinets from China and Vietnam; Institution of Five-Year Reviews, 87 FR 73786 (December 1, 2022).

⁴ See Initiation of Five-Year (Sunset) Reviews, 87 FR 73757 (December 1, 2022) (Initiation Notice).

⁵ See Certain Tool Chests and Cabinets from the People's Republic of China and the Socialist Republic of Vietnam: Final Results of the Expedited Sunset Reviews of the Antidumping Duty Orders, 88 FR 15667 (March 14, 2023) (Tool Chests and Cabinets from China and Vietnam AD), and accompanying Issues and Decision Memorandum (IDM); and Certain Tool Chests and Cabinets from the People's Republic of China: Final Results of the Expedited First Sunset Review of the Countervailing Duty Order, 88 FR 19065 (March 30, 2023) (Tool Chests and Cabinets from China CVD), and accompanying IDM.

On July 7, 2023, the ITC published its determination, pursuant to sections 751(c) and 752(a) of the Act, that revocation of the Orders would likely lead to continuation or recurrence of material injury to an industry in the United States within a reasonably foreseeable time.⁶

⁶ See Tool Chests and Cabinets from China and Vietnam, 88 FR 43399 (July 7, 2023) (ITC Final Determination).

Scope of the Orders

The scope of the Orders covers certain metal tool chests and tool cabinets, with drawers, from China (AD/CVD) and Vietnam (AD). For a complete description of the scope of the Orders, see Appendix I and II to this notice.⁷

⁷ See also Tool Chests and Cabinets from China and Vietnam AD Orders, 83 FR at 25646-47; and Tool Chests and Cabinets from China CVD Order, 83 FR at 3300-01.

Continuation of the Orders

As a result of the determinations by Commerce and the ITC that revocation of the Orders would likely lead to continuation or recurrence of dumping, countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders is July 7, 2023.⁸ Pursuant to section 751(c)(2) of the Act and 19 CFR 351.218(c)(2), Commerce intends to initiate the next five-year reviews of the Orders not later than 30 days prior to the fifth anniversary of the date of the last determination by the Commission.

⁸ See ITC Final Determination.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: July 7, 2023.
Lisa W. Wang,
Assistant Secretary for Enforcement and Compliance.

Appendix I

Scope of the AD Orders

The scope of these orders covers certain metal tool chests and tool cabinets, with drawers, (tool chests and cabinets), from the People's Republic of China (China) and the Socialist Republic of Vietnam (Vietnam). The scope covers all metal tool chests and cabinets, including top chests, intermediate chests, tool cabinets and side cabinets, storage units, mobile work benches, and work stations and that have the following physical characteristics:

(1) a body made of carbon, alloy, or stainless steel and/or other metals;

(2) two or more drawers for storage in each individual unit;

(3) a width (side to side) exceeding 15 inches for side cabinets and exceeding 21 inches for all other individual units but not exceeding 60 inches;

(4) a body depth (front to back) exceeding 10 inches but not exceeding 24 inches; and

(5) prepackaged for retail sale.

For purposes of this scope, the width parameter applies to each individual unit, i.e., each individual top chest, intermediate top chest, tool cabinet, side cabinet, storage unit, mobile work bench, and work station.

Prepackaged for retail sale means the units may, for example, be packaged in a cardboard box, other type of container or packaging, and may bear a Universal Product Code, along with photographs, pictures, images, features, artwork, and/or product specifications. Subject tool chests and cabinets are covered whether imported in assembled or unassembled form. Subject merchandise includes tool chests and cabinets produced in China or Vietnam but assembled, prepackaged for retail sale, or subject to other minor processing in a third country prior to importation into the United States. Similarly, it would include tool chests and cabinets produced in China or Vietnam that are assembled, prepackaged for retail sale, or subject to other minor processing after importation into the United States.

Subject tool chests and cabinets may also have doors and shelves in addition to drawers, may have handles (typically mounted on the sides), and may have a work surface on the top. Subject tool chests and cabinets may be uncoated (e.g., stainless steel), painted, powder coated, galvanized, or otherwise coated for corrosion protection or aesthetic appearance.

Subject tool chests and cabinets may be packaged as individual units or in sets. When packaged in sets, they typically include a cabinet with one or more chests that stack on top of the cabinet. Tool cabinets act as a base tool storage unit and typically have rollers, casters, or wheels to permit them to be moved more easily when loaded with tools. Work stations and mobile work benches are tool cabinets with a work surface on the top that may be made of rubber, plastic, metal, wood, or other materials.

Top chests are designed to be used with a tool cabinet to form a tool storage unit. The top chests may be mounted on top of the base tool cabinet or onto an intermediate chest. They are often packaged as a set with tool cabinets or intermediate chests, but may also be packaged separately. They may be packaged with mounting hardware (e.g., bolts) and instructions for assembling them onto the base tool cabinet or onto an intermediate tool chest which rests on the base tool cabinet. Smaller top chests typically have handles on the sides, while the larger top chests typically lack handles. Intermediate tool chests are designed to fit on top of the floor standing tool cabinet and to be used underneath the top tool chest. Although they may be packaged or used separately from the tool cabinet, intermediate chests are designed to be used in conjunction with tool cabinets. The intermediate chests typically do not have handles. The intermediate and top chests may have the capability of being bolted together.

Side cabinets are designed to be bolted or otherwise attached to the side of the base storage cabinet to expand the storage capacity of the base tool cabinet.

Subject tool chests and cabinets also may be packaged with a tool set included. Packaging a subject tool chest and cabinet with a tool set does not remove an otherwise covered subject tool chest and cabinet from the scope. When this occurs, the tools are not part of the subject merchandise.

All tool chests and cabinets that meet the above definition are included in the scope unless otherwise specifically excluded.

Excluded from the scope of these Orders are tool boxes, chests, and cabinets with bodies made of plastic, carbon fiber, wood, or other non-metallic substances.

Also excluded from the scope of these Orders are industrial grade steel tool chests and cabinets. The excluded industrial grade steel tool chests and cabinets are those:

(1) Having a body that is over 60 inches in width; or

(2) having each of the following physical characteristics:

(a) a body made of steel that is 0.047 inches or more in thickness;

(b) a body depth (front to back) exceeding 21 inches; and

(c) a unit weight that exceeds the maximum unit weight shown below for each width range:

Inches | Maximum pounds
Weight to Width Ratio Tool Chests
21> <25 | 90
25> ≤28 | 115
28> ≤30 | 120
30> ≤32 | 130
32> ≤34 | 140
34> ≤36 | 150
36> ≤38 | 160
38> ≤40 | 170
40> ≤42 | 180
42> ≤44 | 190
44> ≤46 | 200
46> ≤48 | 210
48> ≤50 | 220
50> ≤52 | 230
52> ≤54 | 240
54> ≤56 | 250
56> ≤58 | 260
58> ≤60 | 270
Weight to Width Ratio Tool Cabinets
21> ≤25 | 155
25> ≤28 | 170
28> ≤30 | 185
30> ≤32 | 200
32> ≤34 | 215
34> ≤36 | 230
36> ≤38 | 245
38> ≤40 | 260
40> ≤42 | 280
42> ≤44 | 290
44> ≤46 | 300
46> ≤48 | 310
48> ≤50 | 320
50> ≤52 | 330
52> ≤54 | 340
54> ≤56 | 350
56> ≤58 | 360
58> ≤60 | 370

Also excluded from the scope of these Orders are service carts. The excluded service carts have all of the following characteristics:

(1) Casters, wheels, or other similar devices which allow the service cart to be rolled from place to place;

(2) an open top for storage, a flat top, or a flat lid on top of the unit that opens;

(3) a space or gap between the casters, wheels, or other similar devices, and the bottom of the enclosed storage space (e.g., drawers) of at least 10 inches; and

(4) a total unit height, including casters, of less than 48 inches.

Also excluded from the scope of these Orders are non-mobile work benches. The excluded non-mobile work benches have all of the following characteristics:

(1) A solid top working surface;

(2) no drawers, one drawer, or two drawers in a side-by-side configuration; and

(3) the unit is supported by legs and has no solid front, side, or back panels enclosing the body of the unit.

Also excluded from the scope of these Orders are metal filing cabinets that are configured to hold hanging file folders and are classified in the Harmonized Tariff Schedule of the United States (HTSUS) at subheading 9403.10.0020.

Merchandise subject to these Orders is classified under HTSUS categories 9403.20.0021, 9403.20.0026, 9403.20.0030, 9403.20.0080, 9403.20.0090, and 7326.90.8688, but may also be classified under HTSUS category 7326.90.3500. While HTSUS subheadings are provided for convenience and Customs purposes, the written description of the scope of these Orders is dispositive.

Appendix II

Scope of the CVD Order

The scope of the Order covers certain metal tool chests and tool cabinets, with drawers from China. The scope covers all metal tool chests and cabinets, including top chests, intermediate chests, tool cabinets and side cabinets, storage units, mobile work benches, and work stations and that have the following physical characteristics:

(1) a body made of carbon, alloy, or stainless steel and/or other metals;

(2) two or more drawers for storage in each individual unit;

(3) a width (side to side) exceeding 15 inches for side cabinets and exceeding 21 inches for all other individual units but not exceeding 60 inches;

(4) a body depth (front to back) exceeding 10 inches but not exceeding 24 inches; and

(5) prepackaged for retail sale.

For purposes of this scope, the width parameter applies to each individual unit, i.e., each individual top chest, intermediate top chest, tool cabinet, side cabinet, storage unit, mobile work bench, and work station.

Prepackaged for retail sale means the units may, for example, be packaged in a cardboard box, other type of container or packaging, and may bear a Universal Product Code, along with photographs, pictures, images, features, artwork, and/or product specifications. Subject tool chests and cabinets are covered whether imported in assembled or unassembled form. Subject merchandise includes tool chests and cabinets produced in China but assembled, prepackaged for retail sale, or subject to other minor processing in a third country prior to importation into the United States. Similarly, it would include tool chests and cabinets produced in China that are assembled, prepackaged for retail sale, or subject to other minor processing after importation into the United States.

Subject tool chests and cabinets may also have doors and shelves in addition to drawers, may have handles (typically mounted on the sides), and may have a work surface on the top. Subject tool chests and cabinets may be uncoated (e.g., stainless steel), painted, powder coated, galvanized, or otherwise coated for corrosion protection or aesthetic appearance.

Subject tool chests and cabinets may be packaged as individual units or in sets. When packaged in sets, they typically include a cabinet with one or more chests that stack on top of the cabinet. Tool cabinets act as a base tool storage unit and typically have rollers, casters, or wheels to permit them to be moved more easily when loaded with tools. Work stations and mobile work benches are tool cabinets with a work surface on the top that may be made of rubber, plastic, metal, wood, or other materials.

Top chests are designed to be used with a tool cabinet to form a tool storage unit. The top chests may be mounted on top of the base tool cabinet or onto an intermediate chest. They are often packaged as a set with tool cabinets or intermediate chests, but may also be packaged separately. They may be packaged with mounting hardware (e.g., bolts) and instructions for assembling them onto the base tool cabinet or onto an intermediate tool chest which rests on the base tool cabinet. Smaller top chests typically have handles on the sides, while the larger top chests typically lack handles. Intermediate tool chests are designed to fit on top of the floor standing tool cabinet and to be used underneath the top tool chest. Although they may be packaged or used separately from the tool cabinet, intermediate chests are designed to be used in conjunction with tool cabinets. The intermediate chests typically do not have handles. The intermediate and top chests may have the capability of being bolted together.

Side cabinets are designed to be bolted or otherwise attached to the side of the base storage cabinet to expand the storage capacity of the base tool cabinet.

Subject tool chests and cabinets also may be packaged with a tool set included. Packaging a subject tool chest and cabinet with a tool set does not remove an otherwise covered subject tool chest and cabinet from the scope. When this occurs, the tools are not part of the subject merchandise.

All tool chests and cabinets that meet the above definition are included in the scope unless otherwise specifically excluded.

Excluded from the scope of the Order are tool boxes, chests, and cabinets with bodies made of plastic, carbon fiber, wood, or other non-metallic substances.

Also excluded from the scope of the Order are industrial grade steel tool chests and cabinets. The excluded industrial grade steel tool chests and cabinets are those:

(1) having a body that is over 60 inches in width; or

(2) having each of the following physical characteristics:

(a) a body made of steel that is 0.047 inches or more in thickness;

(b) a body depth (front to back) exceeding 21 inches; and

(c) a unit weight that exceeds the maximum unit weight shown below for each width range:

Inches | Maximum pounds
Weight to Width Ratio Tool Chests
Greater than 21 and less than or equal to 25 | 90
Greater than 25 and less than or equal to 28 | 115
Greater than 28 and less than or equal to 30 | 120
Greater than 30 and less than or equal to 32 | 130
Greater than 32 and less than or equal to 34 | 140
Greater than 34 and less than or equal to 36 | 150
Greater than 36 and less than or equal to 38 | 160
Greater than 38 and less than or equal to 40 | 170
Greater than 40 and less than or equal to 42 | 180
Greater than 42 and less than or equal to 44 | 190
Greater than 44 and less than or equal to 46 | 200
Greater than 46 and less than or equal to 48 | 210
Greater than 48 and less than or equal to 50 | 220
Greater than 50 and less than or equal to 52 | 230
Greater than 52 and less than or equal to 54 | 240
Greater than 54 and less than or equal to 56 | 250
Greater than 56 and less than or equal to 58 | 260
Greater than 58 and less than or equal to 60 | 270
Weight to Width Ratio Tool Cabinets
Greater than 21 and less than or equal to 25 | 155
Greater than 25 and less than or equal to 28 | 170
Greater than 28 and less than or equal to 30 | 185
Greater than 30 and less than or equal to 32 | 200
Greater than 32 and less than or equal to 34 | 215
Greater than 34 and less than or equal to 36 | 230
Greater than 36 and less than or equal to 38 | 245
Greater than 38 and less than or equal to 40 | 260
Greater than 40 and less than or equal to 42 | 280
Greater than 42 and less than or equal to 44 | 290
Greater than 44 and less than or equal to 46 | 300
Greater than 46 and less than or equal to 48 | 310
Greater than 48 and less than or equal to 50 | 320
Greater than 50 and less than or equal to 52 | 330
Greater than 52 and less than or equal to 54 | 340
Greater than 54 and less than or equal to 56 | 350
Greater than 56 and less than or equal to 58 | 360
Greater than 58 and less than or equal to 60 | 370

Also excluded from the scope of the Order are service carts. The excluded service carts have all of the following characteristics:

(1) casters, wheels, or other similar devices which allow the service cart to be rolled from place to place;

(2) an open top for storage, a flat top, or a flat lid on top of the unit that opens;

(3) a space or gap between the casters, wheels, or other similar devices, and the bottom of the enclosed storage space (e.g., drawers) of at least 10 inches; and

(4) a total unit height, including casters, of less than 48 inches.

Also excluded from the scope of the Order are non-mobile work benches. The excluded non-mobile work benches have all of the following characteristics:

(1) a solid top working surface;

(2) no drawers, one drawer, or two drawers in a side-by-side configuration; and

(3) the unit is supported by legs and has no solid front, side, or back panels enclosing the body of the unit.

Also excluded from the scope of the Order are metal filing cabinets that are configured to hold hanging file folders and are classified in the Harmonized Tariff Schedule of the United States (HTSUS) at subheading 9403.10.0020.

Merchandise subject to the Order is classified under HTSUS categories 9403.20.0021, 9403.20.0026, 9403.20.0030 and 7326.90.8688, but may also be classified under HTSUS category 7326.90.3500. While HTSUS subheadings are provided for convenience and Customs purposes, the written description of the scope of the Order is dispositive.

[FR Doc. 2023-14756 Filed 7-11-23; 8:45 am]

BILLING CODE 3510-DS-P